DEPARTMENT OF HOMELAND SECURITY

Coast Guard

33 CFR Part 100

[CGD05-05-024]

RIN 1625-AA08

Special Local Regulations for Marine Events; Approaches to Annapolis Harbor, Spa Creek and Severn River, Annapolis, MD

AGENCY: Coast Guard, DHS.

ACTION: Notice of enforcement.

SUMMARY: The Coast Guard is implementing the special local regulations at 33 CFR 100.511 during the Annapolis Yacht Club boat parade, a marine event to be held May 8, 2005, on the waters of Spa Creek and the Severn River at Annapolis, Maryland. These special local regulations are necessary to control vessel traffic due to the confined nature of the waterway and expected vessel congestion during the event. The effect will be to restrict general navigation in the regulated area for the safety of event participants, spectators and vessels transiting the event area.

DATES: 33 CFR 100.511 will be enforced from 10:30 a.m. to 1 p.m. on May 8, 2005.

FOR FURTHER INFORMATION CONTACT: Ronald Houck, Marine Events Coordinator, Commander, Coast Guard Sector Baltimore, 2401 Hawkins Point Road, Baltimore, MD 21226-1971, and (410) 576-2674.

SUPPLEMENTARY INFORMATION: The Annapolis Yacht Club will sponsor a boat parade on the waters of Spa Creek and the Severn River at Annapolis, Maryland. The event will consist of approximately 60 boats traveling at slow speed along two separate parade routes in Annapolis Harbor. In order to ensure the safety of participants, spectators and transiting vessels, 33 CFR 100.511 will be enforced for the duration of the event. Under the provisions of 33 CFR 100.511, from 10:30 a.m. to 1 p.m. on May 8, 2005 vessels may not enter the regulated area without permission from the Coast Guard Patrol Commander. Spectator vessels may anchor outside the regulated area but may not block a navigable channel. Because these restrictions will be in effect for a limited period, they should not result in a significant disruption of maritime traffic.

In addition to this notice, the maritime community will be provided extensive advance notification via the Local Notice to Mariners, marine information broadcasts, and area newspapers, so mariners can adjust their plans accordingly.

Dated: April 11, 2005.
Ben R. Thomason, III,
Rear Admiral, U.S. Coast Guard, Acting Commander, Fifth Coast Guard District.

[FR Doc. 05-8260 Filed 4-25-05; 8:45 am]

BILLING CODE 4910-15-P